DEPARTMENT OF ENERGY

Federal Energy Regulatory Commission

Combined Notice of Filings #2

Take notice that the Commission received the following exempt wholesale generator filings:

Docket Numbers: EG18-80-000.

Applicants: East Hampton Energy Storage Center, LLC.

Description: Notice of Self-Certification of Exempt Wholesale Generator Status of East Hampton Energy Storage Center, LLC.

Filed Date: 5/4/18.

Accession Number: 20180504-5140.

Comments Due: 5 p.m. ET 5/25/18.

Docket Numbers: EG18-81-000.

Applicants: Montauk Energy Storage Center, LLC.

Description: Notice of Self-Certification of Exempt Wholesale Generator Status of Montauk Energy Storage Center, LLC.

Filed Date: 5/4/18.

Accession Number: 20180504-5141.

Comments Due: 5 p.m. ET 5/25/18.

Take notice that the Commission received the following electric rate filings:

Docket Numbers: ER18-1202-000.

Applicants: Appalachian Power Company, Indiana Michigan Power Company, Kentucky Power Company, Kingsport Power Company, Ohio Power Company, Wheeling Power Company, AEP Appalachian Transmission Company, Inc., AEP Indiana Michigan Transmission Company Inc., AEP Kentucky Transmission Company, Inc., AEP Ohio Transmission Company, Inc., AEP West Virginia Transmission Company, Inc., PJM Interconnection, L.L.C.

Description: Report Filing: AEP submits an Informational Filing re: Revised Refund in Docket No. EL13 to be effective N/A.

Filed Date: 5/4/18.

Accession Number: 20180504-5178.

Comments Due: 5 p.m. ET 5/25/18.

Docket Numbers: ER18-1518-000.

Applicants: Midcontinent Independent System Operator, Inc.

Description: § 205(d) Rate Filing: 2018-05-04_Termination of SA 3021 Upland Prairie-MidAmerican E&P (J455) to be effective 5/5/2018.

Filed Date: 5/4/18.

Accession Number: 20180504-5132.

Comments Due: 5 p.m. ET 5/25/18.

Docket Numbers: ER18-1519-000.

Applicants: Duke Energy Progress, LLC, Duke Energy Florida, LLC, Duke Energy Carolinas, LLC.

Description: Compliance filing: Joint OATT LGIA & SGIA Amendments—Order 842 (Primary Frequency Response) to be effective 5/15/2018.

Filed Date: 5/4/18.

Accession Number: 20180504-5134.

Comments Due: 5 p.m. ET 5/25/18.

Docket Numbers: ER18-1520-000.

Applicants: Midcontinent Independent System Operator, Inc.

Description: § 205(d) Rate Filing: 2018-05-04_Termination of SA 2986 MidAmerican-MidAmerican GIA (J501) to be effective 5/5/2018.

Filed Date: 5/4/18.

Accession Number: 20180504-5135.

Comments Due: 5 p.m. ET 5/25/18.

Docket Numbers: ER18-1521-000.

Applicants: Southwestern Public Service Company.

Description: Petition of Southwestern Public Service Company for Waiver of Tariff Provisions, et al.

Filed Date: 5/4/18.

Accession Number: 20180504-5171.

Comments Due: 5 p.m. ET 5/14/18.

Docket Numbers: ER18-1522-000.

Applicants: PJM Interconnection, L.L.C.

Description: § 205(d) Rate Filing: Original Cost Responsibility Agreement, Service Agreement No. 5086, Queue I01 to be effective 4/6/2018.

Filed Date: 5/4/18.

Accession Number: 20180504-5177.

Comments Due: 5 p.m. ET 5/25/18.

Docket Numbers: ER18-1523-000.

Applicants: ISO New England Inc., New England Power Pool Participants Committee.

Description: Compliance filing: Revisions to ISO-NE Tariff in Compliance with FERC Order No. 842 to be effective 5/15/2018.

Filed Date: 5/4/18.

Accession Number: 20180504-5180.

Comments Due: 5 p.m. ET 5/25/18.

Docket Numbers: ER18-1525-000.

Applicants: Tampa Electric Company.

Description: § 205(d) Rate Filing: Section 205—Ministerial Corrections to Pro Forma LGIA to be effective 5/5/2018.

Filed Date: 5/4/18.

Accession Number: 20180504-5191.

Comments Due: 5 p.m. ET 5/25/18.

Docket Numbers: ER18-1526-000.

Applicants: Louisville Gas & Electric Company, Kentucky Utilities Company.

Description: Notice of Cancellation of Network Operating Agreement (Service Agreement 16) of Louisville Gas and Electric Company, et al.

Filed Date: 5/3/18.

Accession Number: 20180503-5150.

Comments Due: 5 p.m. ET 5/24/18.

Docket Numbers: ER18-1527-000.

Applicants: PJM Interconnection, L.L.C.

Description: § 205(d) Rate Filing: Original Cost Responsibility Agreement, Service Agreement No. 5087, Queue L18 to be effective 4/6/2018.

Filed Date: 5/4/18.

Accession Number: 20180504-5204.

Comments Due: 5 p.m. ET 5/25/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2018.
Nathaniel J. Davis, Sr.,
Deputy Secretary.

[FR Doc. 2018-10001 Filed 5-10-18; 8:45 am]

BILLING CODE 6717-01-P